DEPARTMENT OF COMMERCE

Census Bureau

Agency Information Collection Activities; Submission to the Office of Management and Budget (OMB) for Review and Approval; Comment Request; Redistricting Data Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 07, 2021, during a 60-day comment period. This notice allows for an additional 30 days for public comments.

Agency: U.S. Census Bureau, Department of Commerce.

Title: Redistricting Data Program.

OMB Control Number: 0607-0988.

Form Number(s): P4-02, P4-03, P4-04, P4-05, and P4-06.

Type of Request: Regular submission, Revision of a Currently Approved Collection.

Number of Respondents: 52.

Average Hours per Response:

Phase 4: 8 hours.

Phase 5: 2 hours.

Burden Hours: 520 hours.

Phase 4: 416 hours.

Phase 5: 104 hours.

Needs and Uses: The Redistricting Data Program (RDP) is one of many voluntary programs that collects boundaries to update the U.S. Census Bureau's geographic database of addresses, streets, and boundaries. The Census Bureau uses its geographic database to link demographic data from surveys and the decennial census to locations and areas, such as cities, congressional and legislative districts, and counties. To tabulate statistics by localities, the Census Bureau must have accurate addresses and boundaries.

Specifically, the RDP provides states the opportunity to delineate voting districts and to suggest census block boundaries for use in the 2020 Census redistricting data tabulations (Pub. L. 94-171 Redistricting Data File). In addition, the RDP periodically collects state legislative and congressional district boundaries if they are changed by the states. After the 2020 Census, states may use 2020 data tabulated for census blocks, voting districts, and possibly other geographic areas such as cities, counties, etc., as considerations when they draw their new congressional and legislative district boundaries. States are the only authority that can choose where and how to draw their boundaries. The boundaries collected in the RDP and other geographic programs will create census blocks, which are the building blocks for all Census Bureau geographic boundaries. While the geographic programs differ in requirements, time frame, and participants, the RDP and the other geographic programs all follow the same basic process:

1. The Census Bureau invites eligible participants to the program. For the RDP, the Census Bureau invites non-partisan state liaisons appointed by the legislative majority and minority leadership of each state.

2. If they elect to participate in the program, participants receive a digital copy of the boundaries the Census Bureau has on file. Participants review the boundaries and update them if needed. RDP participants can choose to review and provide their boundary updates using a free customized mapping software, or their own mapping software.

3. Participants return their updates to the Census Bureau.

4. The Census Bureau updates their geographic database with boundary updates from participants.

5. The Census Bureau uses the newly updated boundaries and addresses to tabulate statistics.

The Census Bureau is requesting a clearance to continue the RDP. As the current Office of Management and Budget (OMB) Control Number 0607-0988 will expire in November 2021, the new clearance will allow the Census Bureau to provide RDP-specific materials, burden hours, and procedures to the 52 state liaisons to complete Phase 4: Collection of Post 2020 Census Redistricting Data Plans and Phase 5: Review of the 2020 Census RDP and Recommendations for the 2030 RDP. The RDP is executed under the provisions of Title 13, Section 141(c) of the United States Code (U.S.C.).

Under the provisions of Public Law 94-171, as amended (Title 13, United States Code (U.S.C.), Section 141(c)), the Secretary of Commerce, who designates this responsibility to the Director of the Census Bureau, is required to provide the officers or public bodies having initial responsibility for the legislative apportionment or districting of each state with the opportunity to specify geographic areas (e.g., Voting Districts (wards and election precincts), congressional and state legislative districts, and census blocks) for which they wish to receive decennial census population counts for the purpose of reapportionment or redistricting and to deliver those counts in a timely manner.

The Census Bureau issued invitation letters by mail (U.S. Postal Service) and follow-up emails to the officers or public bodies having initial responsibility for legislative reapportionment and redistricting. The 50 states, the District of Columbia, and the Commonwealth of Puerto Rico designated non-partisan liaisons to serve as the primary point of contact with the Census Bureau on the 2020 Census RDP.

Phase 1: Block Boundary Suggestion Project was conducted and completed in fiscal years 2015 through 2017.

Phase 2: The Voting District Project was conducted and completed in fiscal years 2018 through 2020.

Phase 3: Delivery of the 2020 Decennial Census Redistricting Data was originally scheduled for completion on April 1, 2021. Due to COVID-19-related delays and prioritizing the delivery of the apportionment results, the Census Bureau completed delivery of the redistricting data to all states and state equivalents on August 12, 2021 and again in more usable format on September 16, 2021.

Phase 4: Collection of Post Census Redistricting Data Plans. Between January 2022 and July 2022, the Census Bureau will solicit from each state the newly drawn 118th Congressional Districts and State Legislative Districts. This effort will occur every two years in advance of the 2030 Census to update these boundaries with new or changed plans. A verification phase will occur with each update.

Phase 5: Review of the 2020 Census RDP and Recommendations for the 2030 Census RDP (2020 post-data collection). As the final phase of the 2020 Census RDP, the Census Bureau will work with the states to conduct a thorough review of the RDP. The intent of this review, and the final report that results, is to provide guidance to the Secretary and the Census Bureau Director in planning the 2030 Census RDP.

No changes have been made since the RDP 60-day notification was published on Friday, May 07, 2021, Vol. 86, No. 87, pages 24582-24584.

Affected Public: All 50 states, the District of Columbia, and the Commonwealth of Puerto Rico.

Frequency: Every 10 years.

Respondent's Obligation: Voluntary.

Legal Authority: Public Law 94-171, as amended (Title 13, United States Code (U.S.C.), Section 141(c)).

This information collection request may be viewed at www.reginfo.gov. Follow the instructions to view the Department of Commerce collections currently under review by OMB.

Written comments and recommendations for the proposed information collection should be submitted within 30 days of the publication of this notice on the following website www.reginfo.gov/public/do/PRAMain. Find this information collection by selecting “Currently under 30-day Review—Open for Public Comments” or by using the search function and entering either the title of the collection or the OMB Control Number 0607-0988.

Sheleen Dumas,
Department PRA Clearance Officer, Office of the Chief Information Officer, Commerce Department.

[FR Doc. 2021-20512 Filed 9-21-21; 8:45 am]

BILLING CODE 3510-07-P